DEPARTMENT OF COMMERCE

National Institute of Standards and Technology

[Docket Number: 211013-0207]

Draft of Promoting Access to Voting: Recommendations for Addressing Barriers to Private and Independent Voting for People With Disabilities

AGENCY: National Institute of Standards and Technology, Department of Commerce.

ACTION: Notice; request for public comments.

SUMMARY: The National Institute of Standards and Technology (NIST) requests public comments on the Draft Promoting Access to Voting: Recommendations for Addressing Barriers to Private and Independent Voting for People with Disabilities Document (Draft). The Draft was developed by NIST using information collected through the Request for Information (RFI) that was published in the Federal Register on June 16, 2021; review of reports, papers and other literature; and engagement with stakeholder organizations and election officials. The Draft was developed in response to NIST responsibilities set forth in Executive Order (E.O.) 14019, Promoting Access to Voting. Under section 7 of the E.O., Ensuring Equal Access for Voters with Disabilities, NIST is directed to evaluate the steps needed to ensure that the online Federal Voter Registration Form is accessible to people with disabilities and to analyze barriers to private and independent voting for people with disabilities and make recommendations to remove these barriers. The Draft is posted on the Federal eRulemaking Portal at https://www.regulations.gov as well as the NIST website at: https://www.nist.gov/itl/voting. The use of the eRulemakng Portal does not imply that the Draft is a regulation, nor mandatory guidance for federal agencies.

DATES: Comments must be received by 5:00 p.m. Eastern time on November 22, 2021. Written comments in response to this request for public comment should be submitted according to the instructions in the ADDRESSES and SUPPLEMENTARY INFORMATION sections below. Submissions received after that date may not be considered.

ADDRESSES: Comments may be submitted by any of the following methods:

• Electronic submission: Submit electronic public comments via the Federal e-Rulemaking Portal.

1. Go to www.regulations.gov and enter NIST-XXX-XXX in the search field,

2. Click the “Comment Now!” icon, complete the required fields, and

3. Enter or attach your comments.

• Email: Comments in electronic form may also be sent to pva-eo@list.nist.gov in any of the following formats: HTML; ASCII; Word; RTF; or PDF.

Please submit comments only and include your name, organization's name (if any), and cite “Promoting Access to Voting” in all correspondence.

FOR FURTHER INFORMATION CONTACT: For questions about this request for public comment contact: Kevin Mangold, NIST, at (301) 975-5628, or email Kevin.Mangold@nist.gov. Please direct media inquiries to NIST's Office of Public Affairs at (301) 975-2762. Users of telecommunication devices for the deaf, or a text telephone, may call the Federal Relay Service, toll free at 1-800-877-8339.

Accessible Format: On request to the program contact person listed under FOR FURTHER INFORMATION CONTACT, NIST will make the Draft available in alternate formats, such as Braille or large print, upon request by persons with disabilities.

SUPPLEMENTARY INFORMATION: As stated in Executive Order 14019, Promoting Access to Voting,¹ the right to vote is the foundation of American democracy. Under section 7 of Executive Order 14019, (Ensuring Equal Access for Voters with Disabilities), NIST is directed to evaluate the steps needed to ensure that the online Federal Voter Registration Form is accessible to people with disabilities and identify barriers to private and independent voting for people with disabilities and make recommendations to remove these barriers. NIST is seeking public comment on the Draft Promoting Access to Voting: Recommendations for Addressing Barriers to Private and Independent Voting for People with Disabilities document. The Draft was developed by NIST using information collected through the Request for Information (RFI) that was published in the Federal Register on June 16, 2021, review of reports, papers and other literature, and engagement with stakeholder organizations and election officials.

¹ Exec. Order No. 14019, Promoting Access to Voting, 86 FR 13623 (Mar. 07, 2021).

Request for Comment

NIST seeks public comments on the draft Promoting Access to Voting: Recommendations for Addressing Barriers to Private and Independent Voting for People with Disabilities document and the draft recommendations contained in it regarding both the Federal Voter Registration Form as well as the barriers it has identified that prevent people with disabilities from exercising their fundamental rights and the ability to vote privately and independently. NIST is seeking comment from persons with disabilities, disability advocacy groups, assistive technology vendors and professionals, non-partisan voting promotion groups, voting technology vendors, election officials and other key stakeholders.

The Draft is available electronically from the NIST website at: https://www.nist.gov/itl/voting as well as www.regulations.gov. A comment template is available at: https://www.nist.gov/itl/voting. Use of the comment template is suggested but not required. Interested parties should submit comments in accordance with the DATES and ADDRESSES section of this notice.

Comments containing references, studies, research, and other empirical data that are not widely published should include copies of the referenced materials. All submissions, including attachments and other supporting materials, will become part of the public record and subject to public disclosure. NIST reserves the right to publish relevant comments publicly, unedited and in their entirety. All relevant comments received will be made publicly available at https://www.nist.gov/itl/voting and regulations.gov.

Personally identifiable information (PII), such as street addresses, phone numbers, account numbers or Social Security numbers, or names of other individuals, should not be included. NIST asks commenters to avoid including PII as NIST has no plans to redact PII from comments. Do not submit confidential business information, or otherwise sensitive or protected information. Comments that contain profanity, vulgarity, threats, or other inappropriate language or content will not be considered. NIST requests that commenters, to the best of their ability, only submit attachments that are accessible to people who rely upon assistive technology. A good resource for document accessibility can be found at: section508.gov/create/documents.

Authority: Exec. Order No. 14019, Promoting Access to Voting, 86 FR 13623 (Mar. 07, 2021).

Alicia Chambers,
NIST Executive Secretariat.

[FR Doc. 2021-22757 Filed 10-20-21; 8:45 am]

BILLING CODE 3510-13-P